DEPARTMENT OF HEALTH AND HUMAN SERVICES

National Institutes of Health

Center for Scientific Review; Amended Notice of Meeting

Notice is hereby given of a change in the meeting of the Center for Scientific Review Special Emphasis Panel, June 12, 2008, 8 a.m. to June 13, 2008, 5 p.m., Churchill Hotel, 1914 Connecticut Avenue, NW., Washington, DC, 20009 which was published in the Federal Register on May 21, 2008, 73 FR 29524-29525.

The meeting will be held one day only June 13, 2008. The meeting time and location remain the same. The meeting is closed to the public.

Dated: June 3, 2008.
Anna Snouffer,
Deputy Director, Office of Federal Advisory Committee Policy.

[FR Doc. E8-12907 Filed 6-10-08; 8:45 am]

BILLING CODE 4140-01-M